ELECTION ASSISTANCE COMMISSION

Information Collection Activity; Proposed Information Collection; Comment Request

AGENCY: U.S. Election Assistance Commission (EAC).

ACTION: Notice.

SUMMARY: In compliance with Section 3506(c)(2)(A) of the Paperwork Reduction Act of 1995, EAC announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before Friday, September 29, 2006.

ADDRESSES: Written comments and recommendations on the proposed information collection should be sent to the U.S. Election Assistance Commission, 1225 New York Avenue, NW., Suite 1100, Washington, DC 20005. ATTN: Ms. Laiza N. Otero (or via the Internet at lotero@eac.gov).

FOR FURTHER INFORMATION CONTACT: To request more information on this proposed information collection or to obtain a copy of the proposal and associated collection instruments, please write to the above address or call Mrs. Juliet Thompson-Hodgkins or Ms. Laiza N. Otero at (202) 556-3100. You may also view the proposed collection instrument by visiting our Web site at http://www.eac.gov.

SUPPLEMENTARY INFORMATION:

Title and OMB Number: 2006 Election Administration and Voting Survey; OMB Number Pending.

Needs and Uses: This proposed information collection activity is necessary to meet requirements of the Help America Vote Act (HAVA) of 2002 (42 U.S.C. 15301). Section 241 of HAVA requires the EAC to study and report on election activities, practices, policies, and procedures, including methods of voter registration, methods of conducting provisional voting, poll worker recruitment and training, and such other matters as the Commission determines are appropriate. In addition, HAVA transferred to the EAC the Federal Election Commission's responsibility of biennially administering a survey on the impact of the National Voter Registration Act (NVRA). The information the States are required to submit to the EAC for purposes of the NVRA report are found under Title 11 of the Code of Federal Regulations (Chapter 1, Part 8, Subchapter C). HAVA 703(a) also amended the Uniformed and Overseas Citizens Absentee Voters Act by requiring that “not later than 90 days after the date of each regularly scheduled general election for Federal office, each State and unit and local government which administered the election shall (through the State, in the case of a unit of local government) submit a report to the Election Assistance Commission (established under the Help America Vote Act of 2002) on the combined number of absentee ballots transmitted to absent uniformed services voters and overseas voters for the election and the combined number of such ballots which were returned by such votes and cast in the election, and shall make such a report available to the general public.” In order to fulfill these requirements and to provide a complete report to Congress, the EAC is seeking information relating to the period from the close of registration for the November 2, 2004, Federal general election until the close of registration for the November 7, 2006, Federal general election, and information from the November 7, 2006, Federal general election.

Affected Public: State government.

Number of Respondents: 55.

Responses per Respondent: 1.

Estimated Burden per Response: 91 hours.

Estimated Total Annual Burden Hours: 728.50 hours.

Frequency: Biennially.

To improve and facilitate the collection and analysis of the survey data, the EAC anticipates developing and implementing an Internet-based platform to administer the survey. This method will allow respondents to enter, save, and edit data prior to submitting their final survey response. The following categories of information are requested on a state level and/or county/local election jurisdiction:

Voter Registration Applications

(a) Number of active and inactive registered voters at the time of the close of registration for the November 2, 2004, and the November 7, 2006, Federal general elections; (b) Number of persons who registered to vote on Election Day (November 7, 2006)—only applicable to States with Election Day registration; (c) Number of voter registration applications received from all sources during the period between the close of registration for the November 2, 2004, Federal general elections until close of registration for the November 7, 2006, Federal general elections; (d) Number of voter registration applications received by mail during the period between the close of registration for the November 2, 2004, Federal general elections until close of registration for the November 7, 2006, Federal general elections; (e) Number of voter registration applications received in person at the clerk or registrar's office during the period between the close of registration for the November 2, 2004, Federal general elections until close of registration for the November 7, 2006, Federal general elections; (f) Number of voter registration applications received or generated by each voter registration agency during the period between the close of registration for the November 2, 2004, Federal general elections until close of registration for the November 7, 2006, Federal general elections; (g) Number of voter registration applications that were duplicates of other valid voter registrations, changes of name, changes of address, changes of party, and invalid or rejected (other than duplicates); (h) Number of new, valid voter registration applications processed between the close of registration for the November 2, 2004, Federal general elections until close of registration for the November 7, 2006, Federal general elections; Number of election jurisdictions conducting voter registration; (i) The local entity primarily responsible for registering voters; State and local government offices or agencies designated as voter registration agencies; (j) Training provided to employees of Federal, State, and local government offices or agencies designated as voter registration agencies on the voter registration process; (k) Manner in which voter registration applications are transferred from voter registration agencies to the official responsible for voter registration; Official responsible for verifying and processing voter registration forms; (1) Number used as the voter identification number on the processed voter registration form; Manner in which voter registration applications are verified; (m) Manner in which voter registration officials check for duplicate registrations; Notification to applicants of rejection of their application and reason for the rejection; and (n) Manner in which the statewide voter registration database links to a State's department of motor vehicles and disability and social services agencies.

List Maintenance

(a) Manner in which list maintenance is performed; Number of registrations deleted from the registration list for whatever reason between the close of registration for the November 2, 2004, Federal general elections until close of registration for the November 7, 2006, Federal general elections; (b) Number of removal notices [Section 8, (d)(2) confirmation] mailed out between the close of registration for the November 2, 2004, Federal general elections until close of registration for the November 7, 2006, Federal general elections; (c) Number of responses received to the confirmation notices mailed out between the close of registration for the November 2, 2004, Federal general elections until close of registration for the November 7, 2006, Federal general elections; (d) Number of voters moved to the inactive list between the close of registration for the November 2, 2004, Federal general elections until close of registration for the November 7, 2006, Federal general elections; (e) Number of voters (active and inactive) removed from the voter rolls between the close of registration for the November 2, 2004, Federal general elections until close of registration for the November 7, 2006, Federal general election; (f) Sources considered in performing list maintenance; and (g) Manner in which voters convicted of a felony, voters serving a sentence of incarceration for conviction of a felony, and voters serving a term of probation following being convicted of a felony are treated.

2006 Election Day Results

(a) Identification of States that conduct early voting; (b) Statistics on ballots cast and ballots counted by mode of voting; (c) Statistics on ballots counted for each candidate on a Federal race; and (d) Statistics on provisional ballots.

Absentee Ballots (for the November 7, 2006, Federal General Election Only)

(a) Statistics on absentee ballots requested and not counted by type of absentee voter; (b) Statistics on advanced ballots; (c) Statistics on the number of Federal Write-In Absentee Ballots (FWAB) received; and (d) Statistics on absentee ballot rejections.

Undervotes and Overvotes (for the November 7, 2006, Federal General Election Only)

(a) Statistics on the number of undervotes reported in each Federal contest; and (b) Statistics on the number of overvotes reported in each Federal contest.

Poll Workers (for the November 7, 2006, Federal General Election Only)

(a) Information on the number of poll workers required by State law or regulation to be present at each polling place; (b) Statistics on the number of poll workers that served on Election Day; and (c) Number of polling places that did not have the required number of poll workers.

Voting Jurisdictions and Polling Places (for the November 7, 2006, Federal General Election Only)

(a) Information on what constitutes a local election jurisdiction in the State; (b) Number of local election jurisdictions in the State; Statistics on the number of precincts; (c) Statistics on the number of polling places; (d) Number of polling places that are accessible to voters with disabilities; and (e) Number of polling places where a visually impaired voter can cast a private ballot.

Sources of Information

(a) Number of jurisdictions that provided information to the State for purposes of responding to the survey; (b) Contact information for each local election official that provided information to the State for purposes of responding to the survey; and (c) Other sources of information used to respond to the survey other than those already provided.

Thomas R. Wilkey,
Executive Director, U.S. Election Assistance Commission.

[FR Doc. 06-6602 Filed 7-31-06; 8:45 am]

BILLING CODE 6820-KF-M